NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW, Washington, DC 20594-0001, (202) 314-6233.

SUPPLEMENTARY INFORMATION: Section 4314(c)(1) through (5) of Title 5, United States Code requires each agency to establish, in accordance with regulations prescribed by the Office of Personnel Management, one or more SES Performance Review Boards (PRB). The board reviews and evaluates the initial appraisal of a senior executive's performance by the supervisor and considers recommendations to the appointing authority regarding the performance of the senior executive.

The following have been designated as members of the 2020 Performance Review Board of the National Transportation Safety Board (NTSB):

Mr. Paul Sledzik, Principal Deputy Managing Director, Office of Managing Director, National Transportation Safety Board, PRB Chair.

Ms. Dolline Hatchett, Director, Office of Safety Recommendations and Communications, National Transportation Safety Board.

Ms. Susan A. Kantrowitz, Director, Office of Administration, National Transportation Safety Board.

Mr. Jerold Gidner, Director, Bureau of Trust Funds Administration, Department of Interior.

Ms. Claudia J. Postell, Associate Commissioner, Office of Civil Rights and Equal Opportunity, Social Security Administration.

Ms. Florence Carr, Director, Bureau of Trade Analysis, Federal Maritime Commission (alternate).

Candi R. Bing,
Federal Register Liaison.

[FR Doc. 2020-24679 Filed 11-5-20; 8:45 am]

BILLING CODE 7533-01-P